DEPARTMENT OF COMMERCE

Foreign-Trade Zones Board

T-1-2006

Foreign-Trade Subzone 84C - La Porte, Texas, Temporary/Interim Manufacturing Authority, E.I. du Pont de Nemours and Company, Inc., (Crop Protection Products), Notice of Approval

On March 24, 2006, the Executive Secretary of the Foreign-Trade Zones (FTZ) Board filed an application submitted by E.I. du Pont de Nemours and Company, Inc. (Du Pont), operator of FTZ Subzone 84C, on behalf of the Port of Houston Authority, grantee of FTZ 84, requesting export-only temporary/interim manufacturing (T/IM) authority within Subzone 84C, at Du Pont's facilities located in La Porte, Texas.

The application was processed in accordance with T/IM procedures, as authorized by FTZ Board Order 1347, including notice in the Federal Register inviting public comment (71 FR 16756-16757, 4/4/06). The FTZ staff examiner reviewed the application and determined that it meets the criteria for approval under T/IM procedures. Pursuant to the authority delegated to the FTZ Board Executive Secretary in Board Order 1347, the application was approved, effective June 6, 2006, until June 6, 2008, subject to the FTZ Act and the Board's regulations, including Section 400.28.

Dated: July 18, 2006.
Andrew McGilvray,
Acting Executive Secretary.

[FR Doc. E6-12061 Filed 7-27-06; 8:45 am]

BILLING CODE 3510-DS-S